DEPARTMENT OF COMMERCE

International Trade Administration

[A-428-830]

Stainless Steel Bar From Germany: Final Results of Antidumping Duty Administrative Review

AGENCY: Import Administration, International Trade Administration, Department of Commerce.

ACTION: Notice of final results of 2001-2003 administrative review.

SUMMARY: On February 5, 2004, the Department of Commerce published the preliminary results of the administrative review of the antidumping duty order on stainless steel bar from Germany. The period of review is August 2, 2001, through February 28, 2003. We gave interested parties an opportunity to comment on the preliminary results. Based on our analysis of the comments received and an examination of our calculations, we have made certain changes for the final results. Consequently, the final results differ from the preliminary results. The final weighted-average dumping margin is listed below in the section entitled “Final Results of the Review.”

EFFECTIVE DATE: June 14, 2004.

FOR FURTHER INFORMATION CONTACT: Andrew Smith, Import Administration, International Trade Administration, U.S. Department of Commerce, 14th Street and Constitution Avenue, NW., Washington, DC 20230; telephone: (202) 482-1276.

SUPPLEMENTARY INFORMATION:

Background

Since the February 5, 2004 publication of the preliminary results in this review (see Stainless Steel Bar from Germany: Preliminary Results of Antidumping Duty Administrative Review, 69 FR 5493 (February 5, 2004) (“Preliminary Results”)), the following events have occurred:

We invited parties to comment on the Preliminary Results of the review. On March 8, 2004, Carpenter Technology Corp., Crucible Specialty Metals Division of Crucible Materials Corp., Electralloy Corp., Slater Steels Corp., Empire Specialty Steel and the United Steelworkers of America (AFL-CIO/CLC) (collectively, “petitioners”), and the respondent BGH Edelstahl Freital GmbH, BGH Edelstahl Lippendorf GmbH, BGH Edelstahl Lugau GmbH, and BGH Edelstahl Siegen GmbH (collectively, “BGH”) filed case briefs. On March 15, 2004, BGH filed a rebuttal brief. On March 2, 2004, BGH requested a hearing by letter. On March 16, 2004, BGH withdrew its March 2, 2004, request for a hearing. Since BGH was the only party to request a hearing, no public hearing was held.

Scope of the Review

For the purposes of this review, the term “stainless steel bar” includes articles of stainless steel in straight lengths that have been either hot-rolled, forged, turned, cold-drawn, cold-rolled or otherwise cold-finished, or ground, having a uniform solid cross section along their whole length in the shape of circles, segments of circles, ovals, rectangles (including squares), triangles, hexagons, octagons, or other convex polygons. Stainless steel bar includes cold-finished stainless steel bars that are turned or ground in straight lengths, whether produced from hot-rolled bar or from straightened and cut rod or wire, and reinforcing bars that have indentations, ribs, grooves, or other deformations produced during the rolling process.

Except as specified above, the term does not include stainless steel semi-finished products, cut length flat-rolled products (i.e., cut length rolled products which if less than 4.75 mm in thickness have a width measuring at least 10 times the thickness, or if 4.75 mm or more in thickness having a width which exceeds 150 mm and measures at least twice the thickness), products that have been cut from stainless steel sheet, strip or plate, wire (i.e., cold-formed products in coils, of any uniform solid cross section along their whole length, which do not conform to the definition of flat-rolled products), angles, shapes and sections.

The stainless steel bar subject to this review is currently classifiable under subheadings 7222.11.00.05, 7222.11.00.50, 7222.19.00.05, 7222.19.00.50, 7222.20.00.05, 7222.20.00.45, 7222.20.00.75, and 7222.30.00.00 of the Harmonized Tariff Schedule of the United States (“HTSUS”). Although the HTSUS subheadings are provided for convenience and customs purposes, the written description of the scope of the order is dispositive.

Period of Review

The period of review (“POR”) is August 2, 2001, through February 28, 2003.

Analysis of Comments Received

All issues raised in the case and rebuttal briefs by parties to this review are addressed in the “Issues and Decision Memorandum” from Jeffrey May, Deputy Assistant Secretary, Import Administration to James J. Jochum, Assistant Secretary, Import Administration, dated June 4, 2004 (“Decision Memorandum”), which is hereby adopted by this notice. Attached to this notice as an appendix is a list of the issues that parties have raised and to which we have responded in the Decision Memorandum. Parties can find a complete discussion of all issues raised in this review and the corresponding recommendations in this public memorandum, which is on file in the Department's Central Records Unit, located in Room B-099 of the main Department building (“CRU”). In addition, a complete version of the Decision Memorandum can be accessed directly on the Web at http://ia.ita.doc.gov/frn/index.html. The paper copy and electronic version of the Decision Memorandum are identical in content.

Fair Value Comparisons

To determine whether sales of stainless steel bar by BGH to the United States were made at less than normal value (“NV”), we compared export price (“EP”) to NV. Our calculations followed the methodologies described in the Preliminary Results, except as noted below and in the final results calculation memoranda cited below, which are on file in the CRU.

Export Price

We calculated EP in accordance with section 772(a) of the Tariff Act of 1930, as amended, (“the Act”) because the merchandise was sold to the first unaffiliated purchaser in the United States prior to importation by the exporter/producer outside the United States and because constructed export price methodology was not otherwise warranted. We calculated EP based on the same general methodology described in the Preliminary Results.

Normal Value

We used the same general methodology as that described in the Preliminary Results to determine the cost of production and the NV, except that we reclassified the level of trade for certain home market sales. We continue to find that certain sales by BGH were made at separate and distinct levels of trade. Specifically, for these final results, based upon our determination to rely upon actual “other revenue” charged, rather than quantity sold, as a benchmark for defining service center selling functions, we have revised our level of trade findings. The category home market level of trade 1 (“LOTH 1”) is now comprised of distribution channels 1 and 2, as well as distribution channels 3 and 4 sales made from inventory for which no additional “other revenue” charges were reported on the sales invoice. These distribution channel 3 and 4 sales from warehouse with no additional “other revenue” charges are similar to BGH's distribution channel 1 and 2 sales with respect to sales process, freight services, and warranty service. The category home market level of trade 2 (“LOTH 2”) differs from our Preliminary Results in that it now only includes distribution channel 3 and 4 sales from inventory with service center selling functions, as indicated by the “other revenue” charges. Because of the presence of these service center selling functions, LOTH 2 differs significantly from LOTH 1 with respect to sales process and inventory maintenance. Based upon our overall analysis in the home market, we find that LOTH 1 and LOTH 2 constitute two different levels of trade.

We continue to find that LOTH 1 is similar to the category U.S. market level of trade 1 (“LOTU 1”) with respect to sales process, freight services, warehouse/inventory maintenance and warranty service. Consequently, we matched the U.S. LOTU 1 sales to sales at the same level of trade in the home market (LOTH 1). Where no matches at the same level of trade were possible, we matched to sales in LOTH 2 and made a level of trade adjustment. See section 773(a)(7)(A) of the Act.

Changes From the Preliminary Results

Based on our review of the comments received, we have made certain changes to the calculations for the final results. These changes are discussed in the Decision Memorandum and in the final referenced calculation memorandum. See “Final Results Calculation Memorandum for the BGH Group of Companies” dated June 4, 2004 which is on file in the CRU; see also Decision Memorandum.

Final Results of the Review

We determine that the following percentage margin exists for the period August 2, 2001, through February 28, 2003:

Exporter/manufacturer | Weighted-average margin percentage
BGH | 0.52

Assessment Rates

The Department shall determine, and United States Customs and Border Protection (“CBP”) shall assess, antidumping duties on all appropriate entries. In accordance with 19 CFR 351.212(b)(1), we have calculated exporter/importer (or customer)-specific assessment rates for merchandise subject to this review. To determine whether the duty assessment rates were de minimis, in accordance with the requirement set forth in 19 CFR 351.106(c)(2), we calculated importer (or customer)-specific ad valorem rates by aggregating the dumping margins calculated for all U.S. sales to that importer (or customer) and dividing this amount by the total value of the sales to that importer (or customer). Where an importer (or customer)-specific ad valorem rate was greater than de minimis, we calculated a per-unit assessment rate by aggregating the dumping margins calculated for all U.S. sales to that importer (or customer) and dividing this amount by the total quantity sold to that importer (or customer).

The Department will issue appropriate assessment instructions directly to CBP within 15 days of publication of these final results of review.

Cash Deposit Rates

The following antidumping duty deposits will be required on all shipments of stainless steel bar from Germany entered, or withdrawn from warehouse, for consumption, effective on or after the publication date of the final results of this administrative review, as provided by section 751(a)(1) of the Act: (1) The cash deposit rate for the reviewed company will be the rate listed above (except no cash deposit will be required if a company's weighted-average margin is de minimis, i.e., less than 0.5 percent); (2) for previously reviewed or investigated companies not listed above, the cash deposit rate will continue to be the company-specific rate published for the most recent period; (3) if the exporter is not a firm covered in this review, the previous review, or the original investigation, but the manufacturer is, the cash deposit rate will be the rate established for the most recent period for the manufacturer of the merchandise; and (4) if neither the exporter nor the manufacturer is a firm covered in this or any previous reviews, the cash deposit rate will be 16.96 percent, the “all others” rate established in Notice of Final Determination of Sales at Less Than Fair Value: Stainless Steel Bar from Germany, 67 FR 3159 (January 23, 2002) and Notice of Amended Final Determination of Sales at Less Than Fair Value and Antidumping Duty Order: Stainless Steel Bar from Germany, 67 FR 10382 (March 7, 2002).

These cash deposit requirements shall remain in effect until publication of the final results of the next administrative review.

Notification to Importers

This notice serves as a final reminder to importers of their responsibility under 19 CFR 351.402(f)(2) to file a certificate regarding the reimbursement of antidumping duties prior to liquidation of the relevant entries during this review period. Failure to comply with this requirement could result in the Secretary's presumption that reimbursement of antidumping duties occurred and the subsequent assessment of doubled antidumping duties.

Notification Regarding APOs

This notice also serves as a reminder to parties subject to administrative protective orders (“APOs”) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

We are issuing and publishing these results and this notice in accordance with sections 751(a)(1) and 777(i)(1) of the Act.

Dated: June 14, 2004.
James J. Jochum,
Assistant Secretary for Import Administration.

Appendix I—List of Comments in the Issues and Decision Memorandum

Comment 1: Level of Trade Adjustment

Comment 2: Indirect Selling Expenses

Comment 3: U.S. Commissions

Comment 4: Gross Unit Price Clerical Error

Comment 5: Adjustment in Quantity Clerical Error

Comment 6: Arm's Length Test Matching Criteria

[FR Doc. 04-13197 Filed 6-10-04; 8:45 am]

BILLING CODE 3510-DS-P